ENVIRONMENTAL PROTECTION AGENCY

[FRL OP-OFA-133]

Environmental Impact Statements; Notice of Availability

Responsible Agency: Office of Federal Activities, General Information 202-564-5632 or https://www.epa.gov/nepa.

Weekly receipt of Environmental Impact Statements (EIS)

Filed June 24, 2024 10 a.m. EST Through June 28, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240115, Final, MARAD, USCG, TX, Texas Gulflink Deepwater Port License Application, Review Period Ends: 08/19/2024, Contact: Linden Houston 202-366-4839.

EIS No. 20240116, Final, BLM, CO, Gunnison Sage-Grouse Proposed Resource Management Plan Amendment—Final Environmental Impact Statement, Review Period Ends: 08/05/2024, Contact: Gina Phillips 970-589-9852.

EIS No. 20240117, Final, BLM, AK, ANCSA 17(d)(1) Withdrawals Final Environmental Impact Statement, Review Period Ends: 08/05/2024, Contact: Racheal Jones 907-290-0307.

EIS No. 20240118, Draft, Caltrans, CA, Albion River Bridge Project, Comment Period Ends: 09/09/2024, Contact: Liza Walker 707-502-9657.

EIS No. 20240119, Final, USFWS, OR, Final Environmental Impact Statement for the Barred Owl Management Strategy, Review Period Ends: 08/05/2024, Contact: Robin Bown 503-231-6179.

Amended Notice

EIS No. 20240098, Draft, USACE, MS, Pearl River Basin, Mississippi Federal Flood Risk Management Project, Comment Period Ends: 08/06/2024, Contact: Eric Williams 504-862-2862. Revision to FR Notice Published 06/07/2024; Extending the Comment Period from 07/22/2024 to 08/06/2024.

Dated: June 28, 2024.
Nancy Abrams,
Associate Director, Office of Federal Activities.

[FR Doc. 2024-14711 Filed 7-3-24; 8:45 am]

BILLING CODE 6560-50-P